INTERNATIONAL TRADE COMMISSION

[Investigation Nos. 731-TA-1608-1611 (Final)]

Boltless Steel Shelving Units Prepackaged for Sale From Malaysia, Taiwan, Thailand, and Vietnam; Determinations

On the basis of the record ¹ developed in the subject investigations, the United States International Trade Commission (“Commission”) determines, pursuant to the Tariff Act of 1930 (“the Act”), that an industry in the United States is materially injured by reason of imports of boltless steel shelving units prepackaged for sale (“boltless steel shelving”) from Malaysia, Taiwan, Thailand, and Vietnam, provided for in subheading 9403.20.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 89 FR 28736, 89 FR 28738, 89 FR 28741, 89 FR 28743, April 19, 2024.

Background

The Commission instituted these investigations effective April 25, 2023, following receipt of petitions filed with the Commission and Commerce by Edsal Manufacturing Co., Inc., Chicago, Illinois. The Commission scheduled the final phase of the investigations following notification of preliminary determinations by Commerce that imports of boltless steel shelving from Malaysia, Taiwan, Thailand, and Vietnam were being sold at LTFV within the meaning of § 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register (88 FR 85914, December 11, 2023). The Commission conducted its hearing on April 11, 2024. All persons who requested the opportunity were permitted to participate.

³ On April 19, 2024, Commerce published notice in the Federal Register of a negative final determination in connection with its investigation concerning boltless steel shelving from India (89 FR 28746, April 19, 2024). Accordingly, effective April 19, 2024, the Commission terminated its antidumping duty investigation concerning boltless steel shelving from India (89 FR 33395, April 29, 2024).

The Commission made these determinations pursuant to § 735(b) of the Act (19 U.S.C. 1673d(b)). It completed and filed its determinations in these investigations on June 3, 2024. The views of the Commission are contained in USITC Publication 5508 (June 2024), entitled Boltless Steel Shelving Units Prepackaged for Sale from Malaysia, Taiwan, Thailand, and Vietnam: Investigation Nos. 731-TA-1608-1611 (Final).

By order of the Commission.
Issued: June 3, 2024.
Lisa Barton,
Secretary to the Commission.

[FR Doc. 2024-12451 Filed 6-5-24; 8:45 am]

BILLING CODE 7020-02-P